INTERNATIONAL TRADE COMMISSION

[Investigation No. 337-TA-728]

In the Matter of Collaborative System Products and Components Thereof (II); Notice of Commission Determination Not To Review an Initial Determination Terminating the Investigation on the Basis of a Settlement Agreement; Termination of the Investigation

AGENCY: U.S. International Trade Commission.

ACTION: Notice.

SUMMARY: Notice is hereby given that the U.S. International Trade Commission has determined not to review the final initial determination (“ID”) (Order No. 20) issued by the presiding administrative law judge (“ALJ”) on January 24, 2011 granting a consent motion to terminate the above-captioned investigation in its entirety based upon a settlement agreement.

FOR FURTHER INFORMATION CONTACT: Jia Chen, Esq., Office of the General Counsel, U.S. International Trade Commission, 500 E Street, SW., Washington, DC 20436, telephone (202) 708-4737. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 19, 2010, based on a complaint filed by eInstruction Corporation (“eInstruction”) of Denton, Texas on May 12, 2010. 75 FR 41889 (Jul. 19, 2010). The complaint alleged violations of section 337 of the Tariff Act of 1930 (19 U.S.C. 1337) in the importation into the United States, the sale for importation, and the sale within the United States after importation of certain collaborative system products and components thereof by reason of infringement of various claims of United States Patent No. 6,930,673. The complaint, as amended, named the following respondents: Promethean Inc. of Alpharetta, Georgia; Promethean Technology Shenzhen Ltd. of Shanghai, China; and Promethean Ltd. of Blackburn, Lancashire, United Kingdom.

On January 4, 2011, eInstruction filed a consent motion to terminate the instant investigation on the ground that the parties have reached a settlement agreement pursuant to Commission Rule 210.21(b). On January 24, 2011, the Commission investigative attorney filed a response supporting the motion. On January 24, 2011, the ALJ issued the subject ID granting the motion. No petitions for review of the ID were filed.

The Commission has determined not to review the subject ID.

The authority for the Commission's determination is contained in section 337 of the Tariff Act of 1930, as amended (19 U.S.C. 1337), and in sections 210.21(b) and 210.42(h) of the Commission's Rules of Practice and Procedure (19 CFR 210.21(b), 210.42(h)).

By order of the Commission.
Issued: February 23, 2011.
William R. Bishop,
Hearings and Meetings Coordinator.

[FR Doc. 2011-4441 Filed 2-28-11; 8:45 am]

BILLING CODE 7020-02-P